DEPARTMENT OF HEALTH AND HUMAN SERVICES

Administration for Community Living

Statement of Delegation of Authority

I hereby delegate to the individual serving as the Administrator and Assistant Secretary for Aging for the Administration for Community Living the authority to oversee and administer the operations of the Interagency Coordinating Committee on Healthy Aging and Age-Friendly Communities as outlined in section 203(c) Older Americans Act of 1965 (Pub. L. 89-73, as amended through Pub. L. 116-131, enacted March 25, 2020).

This delegation excludes the authority to issue regulations and shall be exercised in accordance with the Department's applicable policies, procedures, and guidance. This authority may be redelegated.

This delegation of authority is effective immediately upon signature. I hereby affirm and ratify any actions taken by you or your subordinates that involved the exercise of the authorities delegated herein prior to the effective date of the delegation.

Dated: June 13, 2023.
Xavier Becerra,
Secretary.

[FR Doc. 2023-12983 Filed 6-15-23; 8:45 am]

BILLING CODE 4154-01-P